DEPARTMENT OF TRANSPORTATION

National Highway Traffic Safety Administration

49 CFR Part 571

[Docket No. NHTSA-02-14043; Notice 1]

Federal Motor Vehicle Safety Standards

AGENCY: National Highway Traffic Safety Administration (NHTSA), Department of Transportation.

ACTION: Final rule, technical amendment.

SUMMARY: This document updates the outdated addresses in NHTSA's regulation regarding documents incorporated by reference into various Federal motor vehicle safety standards. In addition, this document properly identifies those organizations identified in the regulation that have been replaced by a successor organization.

DATES: Effective Date: This rule is effective December 17, 2002.

FOR FURTHER INFORMATION CONTACT: For legal issues, you may call Rebecca MacPherson, Office of the Chief Counsel, at 202-366-2992.

You may send mail to this official at National Highway Traffic Safety Administration, 400 Seventh St., SW., Washington, DC, 20590.

SUPPLEMENTARY INFORMATION: The National Highway Traffic Safety Administration has adopted a regulation that provided a centralized location for documents incorporated by reference into various Federal motor vehicle safety standards. This regulation is located at 49 CFR 571.5, Matter incorporated by reference. Over the past several years, NHTSA has included its incorporations by reference in the safety standards as they are adopted or amended. Accordingly, the addresses contained in 49 CFR 571.5 have, in many instances, become outdated. Additionally, one of the documents incorporated by reference, Data from the National Health Survey, Public Health Publication No. 1000, series 11, no. 8, has been updated, and the information contained in that publication is now available from the Center for Disease Control, rather than the Department of Health, Education, and Welfare.

List of Subjects in 49 CFR part 571

Imports, Incorporation by reference, Motor vehicle safety, Motor vehicles, Rubber and rubber products, Tires.

In consideration of the foregoing, 49 CFR part 571 is amended as follows:

PART 571—FEDERAL MOTOR VEHICLE SAFETY STANDARDS

1. The authority citation for part 571 of title 49 continues to read as follows:

Authority: 49 U.S.C. 322, 30111, 30115, 30117, 30166 delegation of authority at 49 CFR 1.50.

2. Section 571.5 is amended by revising paragraphs (b)(2) through (b)(6) and (b)(8), as follows:

§ 571.5 Matter incorporated by reference.

* * * * *

(b) * * *

(2) Standards of the American Society for Testing and Materials (ASTM). They are published by the American Society for Testing and Materials. Information and copies may be obtained by writing to: ASTM International, 100 Barr Harbor Drive, PO Box C700, West Conshohocken, PA 19428-2959.

(3) Standards of the American National Standards Institute (ANSI). They are published by the American National Standards Institute. Information and copies may be obtained by writing to: RESNA, 1700 North Moore St., Suite 1540, Arlington, VA 22209-1903.

(4) Data on the Weight Height and Selected Body Dimensions of Adults. They are published by the National Center for Health Statistics, Centers for Disease Control (CDC). Information and copies may be obtained on the CDC web site at http://www.cdc.gov/nchs or by writing to National Division for Health Statistics, Division of Data Services, Hyattsville, MD 20782-2003.

(5) Test Methods of the American Association of Textile Chemists and Colorists (AATCC). They are published by the American Association of Textile Chemists and Colorists. Information and copies may be obtained by writing to: AATCC, 1 Davis Dr., P.O. Box 12215, Research Triangle Park, NC 27709.

(6) Test methods of the Illuminating Engineering Society of North America (IES). They are published by the Illuminating Engineering Society of North America. Information and copies may be obtained by writing to: IES, 120 Wall St., 7th Floor, New York, NY 10005.

* * * * *

(8) Standards of the American Society of Mechanical Engineers (ASME). They are published by the American Society of Mechanical Engineers. Information and copies may be obtained by writing to: ASME, 22 Law Drive, P.O. Box 2900, Fairfield, NJ 07007-2900.

* * * * *

Signed on: December 10, 2002.
Stephen R. Kratzke,
Associate Administrator for Rulemaking.

[FR Doc. 02-31598 Filed 12-16-02; 8:45 am]

BILLING CODE 4910-59-P